SMALL BUSINESS ADMINISTRATION

Public Availability of U.S. Small Business Administration FY 2012 Service Contract Inventory

AGENCY: U.S. Small Business Administration.

ACTION: Notice of Public Availability of FY 2012 Service Contract Inventories.

SUMMARY: In accordance with Section 743 of Division C of the Consolidated Appropriations Act of 2010 (Pub. L. 111-117), the Small Business Administration is publishing this notice to advise the public of the availability of the FY 2012 Service Contract inventory. This inventory provides information on service contract actions over $25,000 that were awarded in FY 2012. The information is organized by function to show how contracted resources are distributed throughout the agency. The inventory has been developed in accordance with guidance issued on November 5, 2010 and December 19, 2011 by the Office of Management and Budget's Office of Federal Procurement Policy (OFPP). The Small Business Administration has posted its inventory and a summary of the inventory on the Small Business Administration homepage at the following link: http://www.sba.gov/content/service-contract-inventory.

FOR FURTHER INFORMATION CONTACT: Questions regarding the service contract inventory should be directed to William Cody in the Procurement Division at (303) 844-3499 or William.Cody@sba.gov.

Dated: January 28, 2013.
Jonathan I. Carver,
Chief Financial Officer/Associate Administrator for Performance Management, Office of the Chief Financial Officer.

[FR Doc. 2013-05957 Filed 3-14-13; 8:45 am]

BILLING CODE P